DEPARTMENT OF TRANSPORTATION

Federal Aviation Administration

14 CFR Part 39

[Docket No. 2003-CE-15-AD]

RIN 2120-AA64

Airworthiness Directives; Short Brothers and Harland Ltd. Models SC-7 Series 2 and SC-7 Series 3 Airplanes

AGENCY: Federal Aviation Administration, DOT.

ACTION: Notice of proposed rulemaking (NPRM).

SUMMARY: This document proposes to adopt a new airworthiness directive (AD) that would apply to all Short Brothers and Harland Ltd. (Shorts) Models SC-7 Series 2 and SC-7 Series 3 airplanes. This proposed AD would require you to repetitively inspect all flight control system rods for corrosion and cracks, replace any cracked rod, and repair corrosion damage or replace any corroded rod depending on the extent of the damage. This proposed AD is the result of mandatory continuing airworthiness information (MCAI) issued by the airworthiness authority for the United Kingdom. The actions specified by this proposed AD are intended to prevent failure of any flight control system rod caused by cracks or corrosion. Such failure could lead to complete failure of the flight control system with consequent loss of control of the airplane.

DATES: The Federal Aviation Administration (FAA) must receive any comments on this proposed rule on or before May 19, 2003.

ADDRESSES: Submit comments to FAA, Central Region, Office of the Regional Counsel, Attention: Rules Docket No. 2003-CE-15-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-15-AD” in the subject line. If you send comments electronically as attached electronic files, the files must be formatted in Microsoft Word 97 for Windows or ASCII text.

You may get service information that applies to this proposed AD from Short Brothers PLC, P.O. Box 241, Airport Road, Belfast BT3 9DZ Northern Ireland; telephone: +44 (0) 28 9045 8444; facsimile: +44 (0) 28 9073 3396. You may also view this information at the Rules Docket at the address above.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Comments Invited

How do I comment on this proposed AD? The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2003-CE-15-AD.” We will date stamp and mail the postcard back to you.

Discussion

What events have caused this proposed AD? The Civil Airworthiness Authority (CAA), which is the airworthiness authority for the United Kingdom, recently notified FAA that an unsafe condition may exist on all Models SC-7 Series 2 and SC-7 Series 3 airplanes. The CAA reports 27 flight control rods with corrosion beyond acceptable limits and 15 rods with cracks. This is on a total of 26 different aircraft.

What are the consequences if the condition is not corrected? Cracked or corroded flight control rods, if not detected or corrected, could lead to complete failure of the flight control system with consequent loss of control of the airplane.

Is there service information that applies to this subject? Shorts has issued Service Bulletin Number 27-77, Original Issue 27/FEB/03.

What are the provisions of this service information? This service bulletin includes procedures for:

—Inspecting all flight control rods for cracks or corrosion;

—Correcting corrosion damage that is not beyond the acceptable limits; and

—Replacing any cracked or corroded (past acceptable limits) control rods.

What action did the CAA take? The CAA classified this service bulletin as mandatory in order to ensure the continued airworthiness of these airplanes in the United Kingdom. The CAA classifying a service bulletin as mandatory is the equivalent for airplanes of British registry as an AD is for airplanes of American registry.

Was this in accordance with the bilateral airworthiness agreement? These airplane models are manufactured in the United Kingdom and are type certificated for operation in the United States under the provisions of section 21.29 of the Federal Aviation Regulations (14 CFR 21.29) and the applicable bilateral airworthiness agreement.

Pursuant to this bilateral airworthiness agreement, the CAA has kept FAA informed of the situation described above.

The FAA's Determination and an Explanation of the Provisions of This Proposed AD

What has FAA decided? The FAA has examined the findings of the CAA; reviewed all available information, including the service information referenced above; and determined that:

—The unsafe condition referenced in this document exists or could develop on other Shorts Models SC-7 Series 2 and SC-7 Series 3 airplanes of the same type design that are on the U.S. registry;

—The actions specified in the previously-referenced service information should be accomplished on the affected airplanes; and

—AD action should be taken in order to correct this unsafe condition.

What would this proposed AD require? This proposed AD would require you to repetitively inspect all flight control system rods for corrosion and cracks, replace any cracked rod, and repair corrosion damage or replace any corroded rod depending on the extent of the damage.

The proposed AD would give initial inspection credit to those operators who had previously inspected the flight control rods in accordance with Shorts Service Bulletin 27-74 (any revision level).

How does the revision to 14 CFR part 39 affect this proposed AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes would this proposed AD impact? We estimate that this proposed AD affects 24 airplanes in the U.S. registry.

What would be the cost impact of this proposed AD on owners/operators of the affected airplanes? We estimate the following costs to accomplish the initial inspection:

Labor cost | Parts cost | Total cost per airplane | Total cost on U.S. operators
250 hours × $60 per hour = $15,000 | No parts necessary to accomplish inspection | $15,000 per airplane | $15,000 × 24 airplanes = $360,000

The follow-up inspections would be substantially less than the initial inspection because the flight control rods only have to be removed in the initial inspection. Replacement control rods cost $2,000. We have no way of determining the number of airplanes that may need such repair/replacement.

Compliance Time of This Proposed AD

What would be the compliance time of this proposed AD? The initial inspection compliance time of this proposed AD is “within the next 3 months after the effective date of this AD or within 24 months after the last inspection accomplished in accordance with Shorts Service Bulletin 27-74 (any revision level), whichever occurs later.” The repetitive inspection compliance time of the proposed AD is “thereafter at intervals not to exceed 24 months.”

Why is the compliance time presented in calendar time instead of hours time-in-service (TIS)? The unsafe condition specified by the proposed AD is caused by corrosion. Corrosion can occur regardless of whether the aircraft is in operation or is in storage. Therefore, to ensure that the unsafe condition specified in the proposed AD does not go undetected for a long period of time, the compliance is presented in calendar time instead of hours TIS.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Short Brothers and Harland Ltd.: Docket No. 2003-CE-15-AD.

(a) What airplanes are affected by this AD? This AD affects Models SC-7 Series 2 and SC-7 Series 3 airplanes, all serial numbers, that are certificated in any category.

(b) Who must comply with this AD? Anyone who wishes to operate any of the airplanes identified in paragraph (a) of this AD must comply with this AD.

(c) What problem does this AD address? The actions specified by this AD are intended to prevent failure of any flight control system rod caused by cracks or corrosion. Such failure could lead to complete failure of the flight control system with consequent loss of control of the airplane.

(d) What actions must I accomplish to address this problem? To address this problem, you must accomplish the following:

Actions | Compliance | Procedures
(1) Inspect all flight control system rods for cracks and corrosion damage | Initially inspect within the next 3 months after the effective date of this AD or within 24 months after the last inspection accomplished in accordance with Shorts Service Bulletin 27-74 (any revision level), whichever occurs later, unless already accomplished. Repetitively inspect thereafter at intervals not to exceed 24 months | In accordance with the ACCOMPLISHMENT INSTRUCTIONS section of Shorts Service Bulletin Number 27-77, Original Issue 27/FEB/03.
(2) If corrosion is found during any inspection that does not exceed the limits specified in Shorts Service Bulletin 27-77, repair the corrosion damage on the affected flight control rod | Prior to further flight after the inspection where the damage is found | In accordance with the ACCOMPLISHMENT INSTRUCTIONS section of Shorts Service Bulletin Number 27-77, Original Issue 27/FEB/03.
(3) If any crack is found or if corrosion damage that exceeds the limits specified in Shorts Service Bulletin 27-77 is found during any inspection required by this AD, replace the affected flight control rod | Prior to further flight after the inspection where the damage or cracks are found | In accordance with the ACCOMPLISHMENT INSTRUCTIONS section of Shorts Service Bulletin Number 27-77, Original Issue 27/FEB/03.
(4) Do not install any used flight control rod on any affected airplane unless it has been inspected and found to be corrosion and crack free as specified in this AD. Then repetitively inspect as required in paragraph (d)(1) of this AD | As of the effective date of this AD | In accordance with the ACCOMPLISHMENT INSTRUCTIONS section of Shorts Service Bulletin Number 27-77, Original Issue 27/FEB/03.

(e) Can I comply with this AD in any other way? To use an alternative method of compliance or adjust the compliance time, follow the procedures in 14 CFR 39.19. Send these requests to the Manager, Standards Office, Small Airplane Directorate. For information on any already approved alternative methods of compliance, contact Doug Rudolph, Aerospace Engineer, FAA, Small Airplane Directorate, 901 Locust, Room 301, Kansas City, Missouri 64106; telephone: (816) 329-4059; facsimile: (816) 329-4090.

(f) How do I get copies of the documents referenced in this AD? You may get copies of the documents referenced in this AD from Short Brothers PLC, P.O. Box 241, Airport Road, Belfast BT3 9DZ Northern Ireland; telephone: +44 (0) 28 9045 8444; facsimile: +44 (0) 28 9073 3396. You may view these documents at FAA, Central Region, Office of the Regional Counsel, 901 Locust, Room 506, Kansas City, Missouri 64106.

Note: The United Kingdom Civil Airworthiness Authority (CAA) classified Shorts Service Bulletin Number 27-77, Original Issue 27/FEB/03, as mandatory. The CAA classifying a service bulletin as mandatory is the equivalent for airplanes on the British registry as an AD is for airplanes on the U.S. registry.

Issued in Kansas City, Missouri, on April 4, 2003.
James E. Jackson,
Acting Manager, Small Airplane Directorate, Aircraft Certification Service.

[FR Doc. 03-8750 Filed 4-9-03; 8:45 am]

BILLING CODE 4910-13-P